DEPARTMENT OF AGRICULTURE

Forest Service

Notice of Intent To Prepare an Environmental Impact Statement To Disclose the Environmental Impacts of Proposed Changes to the Kennecott Greens Creek Mine Tailings Disposal Site; Tongass National Forest, Admiralty National Monument, Juneau, AK

AGENCY: Forest Service, USDA.

ACTION: Notice, intent to prepare an environmental impact statement.

SUMMARY: Pursuant to section 102(2)(C) of the National Environmental Policy Act of 1969, the USDA Forest Service, Tongass National Forest, under the direction of the Juneau Ranger District, will prepare a environmental impact statement (EIS) to analyze and display the effects of proposed changes to the Kennecott Greens Creek Mine, located on public and private lands in southeastern Alaska. The Mine is operated by Kennecott Greens Mining Company and is located approximately 40 miles southwest of downtown Juneau. An Environmental Impact Statement was completed and a Record of Decision signed on January 21, 1983 for operation of the Greens Creek Mine.

DATES: Comments will be accepted throughout the EIS process but, to be most useful during the analysis they should be received in writing by April 30, 2001.

ADDRESSES: Written comments and suggestions concerning the analysis should be sent to Eric Ouderkirk, Landscape Architect, Juneau Ranger District, 8465 Old Dairy Road, Juneau, Alaska; 99801 or e-mail to eouderkirk@fs.fed.us.

FOR FURTHER INFORMATION CONTACT: Eric Ouderkirk, Landscape Architect,Juneau Ranger District, 8465 Old Dairy Road, Juneau, Alaska 99801; phone (907) 586-8800; fax (907) 586-8808 or e-mail to eouderkirk@fs.fed.us

SUPPLEMENTARY INFORMATION: The proposed operations are subject to approval of a Plan of Operations under 36 CFR, Part 228, which is intended to ensure that adverse environmental effects on National Forest System lands and resources are minimized. The United States Department of Agriculture, Forest Service (USFS) proposes to approve an amendment to the Kennecott Greens Mining Company's (KGCMC) General Plan of Operations to authorize the construction of additional dry tailings storage beginning in the late spring of 2002. The additional disposal area would be designed to provide tailings storage for the remaining life of the mine (approximately 14 years), including development of potential new reserves. Permitting this expansion will require modifying the existing lease.

The proposed action would include an 84.5 acre expansion of the boundaries of the existing tailings facility to the west/southwest, including additional area for rock quarries, water management pond, and a storage area for reclamation materials. The actual tailings placement area, as proposed, would occupy approximately 40 acres, with the remaining 44.5 acres used for infrastructure, quarry and borrow sources and potential long-term tailings disposal needs.

In general, the proposed action would authorize the following:

1. Expansion of the existing Pit 5 quarry to provide within the tailings disposal area.

2. Development of two new quarries within bedrock ridges at the south end of the proposed lease boundary. These two quarries would be used as a source of construction materials for infrastructure development, and for road construction as needed.

3. Construction of a new water management pond system for storm water storage and treatment/

4. Installation of surface water and groundwater controls and diversions, for expansion of the tailings pile.

5. Placement of tailings in a “de-watered” state to the maximum elevation of 330 ft. with 3H:1V (horizontal to vertical) external slopes in the same manner currently used. Tailing will be on the dame material as is currently being placed.

6. Use of the existing Containment pond No. 6 for containment and storage of sludge materials produced during tailings placement, and eventually placement of tailings.

7. Development of a storage area for excavated reclamation materials (topsoil and organics).

8. Development of borrow areas (sand and gravel) for infrastructure development and reclamation materials storage.

The disposal facility would be designed to meet the following criteria:

1. Interception and diversion systems would be designed and constructed to control non-contact water around the treatment facility.

2. Approved containment structures either manmade or natural (e.g., liner, slurry walls, low permeability deposit) would be utilized to protect groundwater.

3. Tailings contact water would be collected and treated during operations.

4. To meet geotechnical requirements, appropriate phreatic levels will be maintained within the tailings pile by means of drainage infrastructure.

5. Non-contact water will continue to be diverted around the tailings and contact water will be treated through the existing permitted discharge system.

A reclamation plan, subject to approval by the Forest Service and agencies with permitting jurisdiction, would be required prior to implementation to set performance criteria for achieving water quality standards. As proposed, KGCMC would place an engineered cover on the tailings pile to minimize air and water infiltration. The final lift of tailings would be covered with a sequence of capillary breaks, compacted material and a growth media for concurrent reclamation, in compliance with the General Plan of Operations.

The purpose and need for the Proposed Action is to consider changes to the 1983 approved Plan of Operations for the Greens Creek Mining Company regarding tailings disposal in order to allow for continued operations.

In addition to the Forest Service, the Environmental Protection Agency and U.S. Army Corps of Engineers have jurisdiction and will participate as cooperating agencies in the preparation of the EIS. The Forest Service has agreed to be the lead agency. EPA will be responsible for assuring that the analysis provides sufficient information for revision of the National Pollutant Discharge Elimination System permit under authority of the Clean Water Act. The Corps will be responsible for ensuring that the analysis provides sufficient information for issuance of permits required under Section 404 of the Clean Water Act permit and Section 10 of the Rivers and Harbors Act of 1899 permit, and for compliance with Executive Order 11990 and 11900 related to wetlands and floodplains. Memorandums of Understanding will be initiated with both of the cooperating agencies.

The decision to be made is whether or not to approve the Plan of Operations as amended or require the operator to revise its proposal. The 1983 EIS analyzed the effects of developing the Greens Creek Mine and the Record of Decision approved the conditions under which the project could proceed. This EIS will analyze the effects of proposed changes to the Plan of Operations for expansion of the tailings facility that differ from those approved in the 1983 decision.

Key resources to be analyzed include water quality; impacts to wetlands; impacts to fisheries from the discharge; and potential for impacts to the wilderness values of Admiralty National Monument.

Fred S. Salinas, Assistant Forest Supervisor, Tongass National Forest, is the responsible official.

The Forest Service is seeking information and comments from Federal, State, and local agencies as well as individuals and organizations who may be interested in, or affected by the proposed action. Public scoping meetings are planned in Juneau at Juneau Assembly Chamber Thursday, April 19 at 7 p.m.

The draft environmental impact statement should be available for public review by July 30, 2001. The comment period on the draft environmental impact statement will be 45 days from the date the Environmental Protection Agency publishes the notice is availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after the completion of the final environmental impact statement may be waived or dismissed by the courts. City of Angoon v. Hodel, 803 F.2d. 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement. To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

The final environmental impact statement is scheduled to be completed by December 10, 2001. The Assistant Forest Supervisor for the Tongass National Forest will, as the responsible official for the EIS, make a decision regarding this proposal considering the comments, responses, and environmental consequences discussed in the Final EIS, and applicable laws, regulations, and policies. The decision and supporting reasons will be documented in a Record of Decision.

Dated: March 22, 2001.
Fred S. Salinas,
Assistant Forest Supervisor.

[FR Doc. 01-7729 Filed 3-28-01; 8:45 am]

BILLING CODE 3410-11-M